SECURITIES AND EXCHANGE COMMISSION

Order of Suspension of Trading; In the Matter of Anticus International Corp., China Marketing Media Holdings, Inc., Cigma Metals Corp., and LL&E Royalty Trust; File No. 500-1

June 2, 2015.

It appears to the Securities and Exchange Commission that there is a lack of current and accurate information concerning the securities of Anticus International Corp. (CIK No. 1192494), a revoked Nevada corporation with its principal place of business listed as Montreal, Quebec, Canada, with stock quoted on OTC Link (previously, “Pink Sheets”) operated by OTC Markets Group, Inc. (“OTC Link”) under the ticker symbol ATCI, because it has not filed any periodic reports since the period ended March 31, 2011. On July 5, 2013, Anticus International received a delinquency letter sent by the Division of Corporation Finance requesting compliance with their periodic filing obligations.

It appears to the Securities and Exchange Commission that there is a lack of current and accurate information concerning the securities of China Marketing Media Holdings, Inc. (CIK No. 1353307), a forfeited Texas corporation with its principal place of business listed as Beijing, China, with stock quoted on OTC Link under the ticker symbol CMKM, because it has not filed any periodic reports since the period ended September 30, 2012. On April 15, 2014, the Division of Corporation Finance sent China Marketing Media Holdings a delinquency letter requesting compliance with its periodic filing obligations, but the letter was returned because of China Marketing Media Holdings' failure to maintain a valid address on file with the Commission.

It appears to the Securities and Exchange Commission that there is a lack of current and accurate information concerning the securities of Cigma Metals Corp. (CIK No. 1083410), a dissolved Florida corporation with its principal place of business listed as Madrid, Spain, with stock quoted on OTC Link under the ticker symbol CGMX, because it has not filed any periodic reports since the period ended September 30, 2012. A delinquency letter sent to Cigma Metals by the Division of Corporation Finance requesting compliance with their periodic filing obligations was returned, but a letter sent to the company's registered agent was delivered on August 17, 2012.

It appears to the Securities and Exchange Commission that there is a lack of current and accurate information concerning the securities of LL&E Royalty Trust (CIK No. 721765), a Michigan trust with its principal place of business listed as Troy, Michigan, with units of interest quoted on OTC Link under the ticker symbol LRTR, because it has not filed any periodic reports since the period ended September 30, 2011. On August 30, 2013, LL&E Royalty received a delinquency letter sent by the Division of Corporation Finance requesting compliance with their periodic filing obligations.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 2, 2015, through 11:59 p.m. EDT on June 15, 2015.

By the Commission.
Jill M. Peterson,
Assistant Secretary.

[FR Doc. 2015-13741 Filed 6-2-15; 11:15 am]

BILLING CODE 8011-01-P